DEPARTMENT OF HOMELAND SECURITY

U.S. Citizenship and Immigration Services

[CIS No. 2469-09; DHS Docket No. USCIS-2009-0003]

RIN 1615-ZA82

Extension of the Designation of Somalia for Temporary Protected Status and Automatic Extension of Employment Authorization Documentation for Somalian TPS Beneficiaries

AGENCY: U.S. Citizenship and Immigration Services, Department of Homeland Security.

ACTION: Notice.

SUMMARY: This Notice announces that the Secretary of Homeland Security has extended the designation of Somalia for temporary protected status (TPS) for 18 months, from its current expiration date of September 17, 2009 through March 17, 2011. This Notice also sets forth procedures necessary for nationals of Somalia (or aliens having no nationality who last habitually resided in Somalia) with TPS to re-register with U.S. Citizenship and Immigration Services (USCIS). Re-registration is limited to persons who have previously registered for TPS under the designation of Somalia and whose applications have been granted by or remain pending with USCIS. Certain nationals of Somalia (or aliens having no nationality who last habitually resided in Somalia) who have not previously applied to USCIS for TPS may be eligible to apply under the late initial registration provisions.

Given the timeframes involved with processing TPS re-registration applications, the Department of Homeland Security (DHS) recognizes the possibility that all re-registrants may not receive new EADs until after their current EADs expire on September 17, 2009. Accordingly, this Notice automatically extends the validity of EADs issued under the TPS designation of Somalia for 6 months, through March 17, 2010, and explains how TPS beneficiaries and their employers may determine which EADs are automatically extended.

DATES: The extension of the TPS designation of Somalia is effective September 18, 2009, and will remain in effect through March 17, 2011. The 60-day re-registration period begins July 27, 2009, and will remain in effect until September 25, 2009.

FOR FURTHER INFORMATION CONTACT: TPS Operations Program Manager, Status and Family Branch, Office of Service Center Operations, U.S. Citizenship and Immigration Services, Department of Homeland Security, 20 Massachusetts Avenue, NW., Washington, DC 20529-2060, telephone (202) 272-1533. This is not a toll-free call. Further information will also be available at local USCIS offices upon publication of this Notice and on the USCIS Web site at http://www.uscis.gov.

Note: The phone number provided here is solely for questions regarding this TPS Notice. It is not for individual case status inquiries. Applicants seeking information about the status of individual cases can check Case Status Online available at the USCIS Web site, or may call the USCIS National Customer Service Center at 1-800-375-5283 (TTY 1-800-767-1833).

SUPPLEMENTARY INFORMATION:

Abbreviations and Terms Used in This Document

Act—Immigration and Nationality Act

ASC—USCIS Application Support Center

DHS—Department of Homeland Security

HSA—Homeland Security Act of 2002

OSC—U.S. Department of Justice Office of Special Counsel for Immigration Related Unfair Employment Practices

EAD—Employment Authorization Document

Secretary—Secretary of Homeland Security

TPS—Temporary Protected Status

USCIS—U.S. Citizenship and Immigration Services

What is Temporary Protected Status?

TPS is an immigration status granted to eligible nationals of a country designated for TPS under the Act (or to persons without nationality who last habitually resided in the designated country). During the period for which the Secretary has designated a country for TPS, TPS beneficiaries are eligible to remain in the United States and may obtain work authorization, so long as they continue to meet the terms and conditions of their TPS status. The granting of TPS does not lead to permanent resident status. When the Secretary terminates a country's TPS designation, beneficiaries return to the same immigration status they maintained before TPS (unless that status has since expired or been terminated) or to any other status they may have been obtained while registered for TPS.

What authority does the Secretary of Homeland Security have to extend the designation of Somalia for TPS?

Section 244(b)(1) of the Act, 8 U.S.C. 1254a(b)(1), authorizes the Secretary, after consultation with appropriate agencies of the government, to designate a foreign State (or part thereof) for TPS.¹ The Secretary may then grant TPS to eligible nationals of that foreign State (or aliens having no nationality who last habitually resided in that State). Section 244(a)(1)(A) of the Act; 8 U.S.C. 1254a(a)(1)(A).

¹ As of March 1, 2003, in accordance with section 1517 of Title XV of the Homeland Security Act of 2002 (HSA), Public Law 107-296, 116 Stat. 2135, any reference to the Attorney General in a provision of the Immigration and Nationality Act describing functions which were transferred from the Attorney General or other Department of Justice official to the Department of Homeland Security by the HSA “shall be deemed to refer to the Secretary” of Homeland Security. See 6 U.S.C. 557 (2003) (codifying HSA, Title XV, Section 1517).

At least 60 days before the expiration of a TPS designation, the Secretary, after consultations with appropriate agencies of the government, must review the conditions in a foreign State designated for TPS to determine whether the conditions for the TPS designation continue to be met and, if so, must determine the length of an extension of the TPS designation. Sections 244(b)(3)(A) and (C) of the Act, 8 U.S.C. 1254a(b)(3)(A) and (C). If the Secretary determines that the foreign State no longer meets the conditions for the TPS designation, she must terminate the designation. Section 244(b)(3)(B) of the Act, 8 U.S.C. 1254a(b)(3)(B).

Why was Somalia designated for TPS?

On September 16, 1991, the Attorney General published a notice in the Federal Register, at 56 FR 46804, designating Somalia for TPS due to ongoing armed conflict and extraordinary and temporary conditions within the country. The Attorney General extended TPS for Somalia nine times, determining in each instance that the conditions warranting the designation continued to be met. 57 FR 32232 (July 21, 1992); 58 FR 48898 (Sept. 20, 1993); 59 FR 43359 (Aug. 23, 1994); 60 FR 39005 (July 31, 1995); 61 FR 39472 (July 29, 1996); 62 FR 41421 (Aug. 1, 1997); 63 FR 51602 (Sept. 28, 1998); 64 FR 49511 (Sept. 13, 1999); 65 FR 69789 (Nov. 20, 2000).

On September 4, 2001, the Attorney General redesignated Somalia for TPS by publishing a notice in the Federal Register at 66 FR 46288, based upon ongoing armed conflict and extraordinary and temporary conditions within Somalia, which had worsened. Since that date, the Attorney General and the Secretary of Homeland Security have extended the TPS designation of Somalia six times based on determinations that the conditions warranting the designation continued to be met. 67 FR 48950 (July 26, 2002); 68 FR 43147 (July 21, 2003); 69 FR 47937 (Aug. 6, 2004); 70 FR 43895 (July 29, 2005); 71 FR 42653 (July 27, 2006); 73 FR 13245 (Mar. 12, 2008).

Why is the Secretary extending the TPS designation for Somalia through March 17, 2011?

Over the past year, DHS and the Department of State have continued to review conditions in Somalia. Based on this review, the Secretary has determined that an 18-month extension is warranted, because the armed conflict is ongoing, and the extraordinary and temporary conditions that prompted the September 4, 2001, redesignation persist. Section 244(b)(1)(A), (C) of the Act; 8 U.S.C. 1254a(b)(1)(A), (C).

Somalia remains in a state of chaos characterized by the lack of central government; a crippled economy, the absence of civil structures, destruction of infrastructure; and generalized insecurity in the form of banditry, kidnapping, looting, revenge killings, targeted assassinations, suicide car-bombings, and inter-clan fighting. Humanitarian efforts have been hindered by increasing targeted attacks on humanitarian workers countrywide. In 2007, 6,500 civilians were killed. An additional 2,136 civilians were killed in the first half of 2008. Almost 750,000 people fled Mogadishu to escape the fighting between April and July 2008. Between January and August 2008, the number of people in need of humanitarian assistance increased 77 percent, from 1.8 million to 3.2 million people. The intensifying conflict, drought, increased food prices, the targeting of humanitarian workers, and growing piracy off the Somali coast have exacerbated the humanitarian toll on the Somali people.

Based upon her review, the Secretary has determined, after consultation with the appropriate government agencies, that the conditions that prompted the 2001 redesignation of Somalia for TPS continue to be met. See section 244(b)(3)(A) of the Act; 8 U.S.C. 1254a(b)(3)(A). An ongoing armed conflict and extraordinary and temporary conditions in Somalia prevent aliens who are nationals of Somalia (or aliens having no nationality who last habitually resided in Somalia) from returning in safety. The Secretary also has determined that it is not contrary to the national interest of the United States to permit aliens who meet the eligibility requirements of TPS to remain in the United States temporarily. See section 244(b)(1)(C) of the Act. On the basis of these findings and determinations, the Secretary concludes that the designation of Somalia for TPS should be extended for an additional 18-month period. See section 244(b)(3)(C) of the Act, 8 U.S.C. 1254a(b)(3)(C). There are approximately 250 nationals of Somalia (or aliens having no nationality who last habitually resided in Somalia) who are eligible for TPS under this designation.

What Actions Should Qualifying Aliens Take Pursuant to This Notice?

To maintain TPS, a national of Somalia (or an alien having no nationality who last habitually resided in Somalia) who was granted TPS and who has not had TPS withdrawn or who has a pending application for TPS must re-register for TPS during the 60-day re-registration period from July 27, 2009 until September 25, 2009. To re-register, aliens must follow the filing procedures set forth in this Notice. An addendum to this Notice provides instructions on this extension, including filing and eligibility requirements for TPS and EADs. Information concerning the extension of the designation of Somalia for TPS also will be available at local USCIS offices upon publication of this Notice and on the USCIS Web site at http://www.uscis.gov.

Notice of Extension of the TPS Designation of Somalia

By the authority vested in me as Secretary of Homeland Security under section 244 of the Act, 8 U.S.C. 1254a, I have determined, after consultation with the appropriate government agencies, that the conditions that prompted the redesignation of Somalia for temporary protected status (TPS) on September 4, 2001, continue to be met. See section 244(b)(3)(A) of the Immigration and Nationality Act, 8 U.S.C. 1254a(b)(3)(A). I also have determined that it is not contrary to the national interest of the United States to permit aliens who meet the eligibility requirements of TPS to remain in the United States temporarily. See section 244(b)(1)(C) of the Act. On the basis of these determinations, I am extending the TPS designation of Somalia for 18 months from September 18, 2009, through March 17, 2011.

Dated: July 15, 2009.
Janet Napolitano,
Secretary.

Temporary Protected Status Filing Requirements

Do I need to re-register for TPS if I currently have benefits through the designation of Somalia for TPS, and would like to maintain them?

Yes. If you already have received TPS benefits through the TPS designation of Somalia, your benefits will expire on September 17, 2009. All TPS beneficiaries must comply with the re-registration requirements, and submit any associated application fees or applications for waivers of the fees described in this Notice in order to maintain TPS benefits through March 17, 2011. TPS benefits include temporary protection against removal from the United States and employment authorization during the TPS designation period. Section 244(a)(1) of the Act; 8 U.S.C. 1254a(a)(1). Failure to re-register without good cause will result in the withdrawal of your temporary protected status and possibly your removal from the United States. Section 244(c)(3)(C) of the Act; 8 U.S.C. 1254a(c)(3)(C).

If I am currently registered for TPS or have a pending application for TPS, how do I re-register to renew my benefits for the duration of the extension period?

Please submit the proper forms and fees according to Tables 1 and 2 below. The following are some helpful tips to keep in mind when completing your application:

• All applicants are strongly encouraged to pay close and careful attention when filling out the required forms to help ensure that their dates of birth, alien registration numbers, spelling of their names, and other required information is correctly entered on the forms.

• All questions on the required forms should be fully and completely answered. Failure to fully complete each required form may result in a delay in processing of your application.

• Aliens who have previously registered for TPS, but whose applications remain pending, should follow the filing instructions in this Notice if they wish to renew their TPS benefits.

• All TPS re-registration applications submitted without the required fees will be returned to applicants.

• All fee waiver requests should be filed in accordance with 8 CFR 244.20.

• If you received an Employment Authorization Document (EAD) during the most recent registration period, please submit a photocopy of the front and back of your EAD.

Table 1—Application Forms and Application Fees
If . . . | And . . . | Then . . .
You are re-registering for TPS | You are applying for an extension of your EAD valid through March 17, 2011 | You must complete and file the Form I-765, Application for Employment Authorization, with the fee of $340 or a fee waiver request. You must also submit Form I-821, Application for Temporary Protected Status, with no fee.
You are re-registering for TPS | You are NOT applying for renewal of your EAD | You must complete and file the Form I-765 with no fee and Form I-821 with no fee. Note: DO NOT check any box for the question “I am applying for” listed on Form I-765, as you are NOT requesting an EAD benefit.
You are applying for TPS as a late initial registrant (see below) and you are between the ages of 14 and 65 (inclusive) | You are applying for a TPS-related EAD | You must complete and file Form I-821 with the $50 fee or fee waiver request. You must also submit Form I-765 with the fee of $340 or a fee waiver request.
You are applying for TPS as a late initial registrant and are under age 14 or over age 65 | You are applying for a TPS-related EAD | You must complete and file Form I-821 with the $50 fee or fee waiver request. You must also submit Form I-765 with no fee.
You are applying for TPS as a late initial registrant, regardless of age | You are NOT applying for an EAD | You must complete and file Form I-821 with the $50 fee or fee waiver request. You must also submit Form I-765 with no fee.
Your previous TPS application is still pending | You are applying to renew your temporary treatment benefits (i.e., an EAD with category “C-19” on its face) | You must complete and file the Form I-765 with the fee of $340 or a fee waiver request. You must also submit Form I-821, with no fee.

Certain applicants must also submit a Biometric Service Fee (See Table 2).

Table 2—Biometric Service Fee
If . . . | And . . . | Then . . .
You are 14 years of age or older | 1. You are re-registering for TPS, or 2. You are applying for TPS under the late initial registration provisions, or | You must submit a Biometric Service fee of $80 or a fee waiver request.
| 3. Your TPS application is still pending and you are applying to renew temporary treatment benefits (i.e., EAD with category “C-19” on its face) |
You are younger than 14 years of age | 1. You are applying for an EAD, or 2. You are NOT applying for an EAD | You do NOT need to submit a Biometric Service fee.

What editions of Form I-821 and Form I-765 should I submit?

Only versions of Form I-821 dated October 17, 2007 (Rev. 10/17/07), or later, will be accepted. Only versions of Form I-765 dated May 27, 2008 (Rev. 5/27/08), or later, will be accepted. The revision date can be found in the bottom right corner of the form. The proper forms can be found on the Internet at http://www.uscis.gov or by calling the USCIS forms hotline at 1-800-870-3676.

Where should I submit my application for TPS?

Mail your application for TPS to the proper address in Table 3:

Table 3—Mailing Addresses
U.S. Postal Service deliveries . . . | Non-U.S. Postal Service deliveries . . .
U.S. Citizenship and Immigration Services: Attn: TPS Somalia, P.O. Box 8677, Chicago, IL 60680-8677 | U.S. Citizenship and Immigration Services: Attn: TPS Somalia, 131 S. Dearborn—3rd Floor, Chicago, IL 60603-5517.

If an Immigration Judge or the Board of Immigration Appeals granted you TPS, you must submit evidence of the grant of TPS (such as an order from the Immigration Judge) with your application. In addition, when you receive your receipt notice (Form I-797), you will need to send an e-mail to Tpsijgrant.vsc@dhs.gov that includes the following information:

• Your name;

• Your date of birth;

• The receipt number for your re-registration;

• Your A-number; and

• The date you were granted TPS.

Please note that the e-mail address provided above is solely for re-registration applicants who were granted TPS by Immigration Judges or by the Board of Immigration Appeals to notify USCIS of their grant of TPS. It is not for individual case status inquiries. Applicants seeking information about the status of their individual cases can check Case Status Online available at the USCIS Web site, or call the USCIS National Customer Service Center.

Can I file my application electronically?

If you are filing for re-registration and do not need to submit supporting documentation (see Table 4) with your application, you may file your application electronically. To file your application electronically, follow directions on the USCIS Web site at: http://www.uscis.gov.

How will I know if I need to submit supporting documentation with my application package?

See Table 4 below to determine if you need to submit supporting documentation.

Table 4—Who Should Submit Supporting Documentation?
If . . . | Then . . .
One or more of the questions listed in Part 4, Question 2 of Form I-821 applies to you | You must submit an explanation, on a separate sheet(s) of paper, and/or additional documentation. Depending on the nature of the question(s) you are addressing, additional documentation alone may suffice, but usually, a written explanation will also be needed.
You were granted TPS by an Immigration Judge or the Board of Immigration Appeals (BIA) | You must include evidence of the grant of TPS (such as a final order from the Immigration Judge or decision of the BIA) with your application package.

How do I know if I am eligible for late initial registration?

You may be eligible for late initial registration under 8 CFR 244.2. In order to be eligible for late initial registration, you must:

(1) Be a national of Somalia (or an alien who has no nationality and who last habitually resided in Somalia);

(2) Have continuously resided in the United States since September 4, 2001;

(3) Have been continuously physically present in the United States since September 4, 2001; and

(4) Be both admissible as an immigrant, except as provided under section 244(c)(2)(A) of the Act, and not ineligible for TPS under section 244(c)(2)(B) of the Act.

Additionally, you must be able to demonstrate that during the initial registration period for the redesignation of TPS for Somalia (September 4, 2001 to December 3, 2001), you:

(1) Were a nonimmigrant or had been granted voluntary departure status or any relief from removal;

(2) Had an application for change of status, adjustment of status, asylum, voluntary departure, or any relief from removal or change of status pending or subject to further review or appeal;

(3) Were a parolee or had a pending request for reparole; or

(4) Are the spouse or child of an alien currently eligible to be a TPS registrant.

An applicant for late initial registration must file an application for late registration no later than 60 days after the expiration or termination of the conditions described above. See 8 CFR 244.2(g). All late initial registration applications for TPS, pursuant to the designation of Somalia, should be submitted to the Chicago, Illinois address listed above.

Are certain aliens ineligible for TPS?

Yes. There are certain criminal and terrorism-related inadmissibility grounds that render an alien ineligible for TPS. See section 244(c)(2)(A)(iii) of the Act; 8 U.S.C. 1254a(c)(2)(A)(iii). Further, aliens who have been convicted of any felony or two or more misdemeanors committed in the United States are ineligible for TPS under section 244(c)(2)(B)(i) of the Act, 8 U.S.C. 1254a(c)(2)(B)(i), as are aliens described in section 208(b)(2)(A) of the Act, 8 U.S.C. 1158(b)(2)(A) (describing the bars to asylum). See section 244(c)(2)(B)(ii) of the Act; 8 U.S.C. 1254a(c)(2)(B)(ii).

If I currently have TPS, can I lose my TPS benefits?

Yes, you can lose your TPS benefits. TPS and related benefits will be withdrawn if you:

(1) Are not eligible for TPS,

(2) Fail to timely re-register for TPS without good cause, or

(3) Fail to maintain continuous physical presence in the United States. See sections 244(c)(3)(A)-(C) of the Act; 8 U.S.C. 1254a(c)(3)(A)-(C).

Does TPS lead to lawful permanent residence status?

No. TPS is a temporary benefit. Having been granted TPS does not, of itself, provide an alien with a basis for seeking lawful permanent resident status. A TPS beneficiary who wants to become a lawful permanent resident must qualify for this status based on a family relationship, employment classification, or other generally available basis for immigration, and must be otherwise admissible as an immigrant.

If I am currently covered under TPS, what status will I have if my country's TPS designation is terminated?

When a country's TPS designation is terminated, you will maintain the same immigration status that you held prior to obtaining TPS (unless that status has since expired or been terminated), or any other status you may have acquired while registered for TPS. Accordingly, if you held no lawful immigration status prior to being granted TPS and did not obtain any other status during the TPS period, you will revert to unlawful status upon the termination of the TPS designation. Once the Secretary determines that a TPS designation should be terminated, aliens who had TPS under that designation, and who do not hold any other lawful immigration status, must plan for their departure from the United States.

May I apply for another immigration benefit while registered for TPS?

Yes. Registration for TPS does not prevent you from applying for nonimmigrant status, filing for adjustment of status based on an immigrant petition, or applying for any other immigration benefit or protection. Section 244(a)(5) of the Act; 8 U.S.C. 1254a(a)(5). For the purposes of change of status and adjustment of status, an alien is considered to be in, and maintaining, lawful status as a nonimmigrant during the period in which he or she is granted TPS. See section 244(f)(4) of the Act; 8 U.S.C. 1254a(f)(4).

However, if an alien has periods of time when he or she had no lawful immigration status before, or after, the alien's time in TPS, those period(s) of unlawful presence may negatively affect that alien's ability to adjust to permanent resident status or be granted other immigration benefits, depending on the circumstances. See e.g., section 212(a)(9) of the Act; 8 U.S.C. 1182(a)(9) (unlawful presence ground of inadmissibility that is triggered by a departure from the United States). In some cases, the unlawful presence ground of inadmissibility, or certain other grounds of inadmissibility, may be waived when an alien applies for adjustment or change of status.

How does an application for TPS affect my application for asylum or other immigration benefits?

An application for TPS does not affect an application for asylum or any other immigration benefit. Denial of an application for asylum or any other immigration benefit does not affect an alien's TPS eligibility, although the grounds for denying one form of relief may also be grounds for denying TPS. For example, a person who has been convicted of a particularly serious crime is not eligible for asylum or TPS. See sections 244(b)(2)(A)(ii) and 244(c)(2)(B)(ii) of the Act; 8 U.S.C. 1254a(b)(2)(A)(ii) and 8 U.S.C. 1254a(c)(2)(B)(ii).

Can nationals of Somalia (or aliens having no nationality who last habitually resided in Somalia) who entered the United States after September 4, 2001, file for TPS?

No. This extension does not expand TPS eligibility to those who are not currently eligible. To be eligible for benefits under this extension, nationals of Somalia (or aliens having no nationality who last habitually resided in Somalia) must have continuously resided and have been continuously physically present in the United States since September 4, 2001. See section 244(c)(1) of the Act, 8 U.S.C. 1254a(c)(1); see also 66 FR 46288 (Sept. 4, 2001).

Employment Authorization Document Automatic Extension Guidelines

Who is eligible to receive an automatic six-month EAD extension from September 17, 2009 to March 17, 2010?

To receive an automatic six-month extension of an EAD, an individual must be a national of Somalia (or an alien having no nationality who last habitually resided in Somalia) who has applied for and received an EAD under the designation of Somalia for TPS and who has not had TPS withdrawn or denied. This automatic extension is limited to EADs issued on Form I-766, Employment Authorization Document, bearing an expiration date of September 17, 2009. These EADs must also bear the notation “A-12” or “C-19” on the face of the card under “Category.”

How will I know if I have to report to an Application Support Center (ASC) to submit biometrics?

USCIS will mail you a notice with instructions as to whether or not you are required to appear at an ASC for biometrics collection. To increase efficiency and improve customer service, whenever possible, USCIS will reuse previously-captured biometrics and will conduct necessary security checks using those biometrics, such that you may not be required to appear at an ASC. Due to systems limitations, it may not be possible in every case to reuse biometrics.

However, even if you do not need to attend an ASC appointment, you are required to pay the separate biometrics fee or submit an appropriately supported fee waiver request. See 8 CFR 244.6. This fee will help cover the USCIS costs associated with use and maintenance of collected biometrics (such as fingerprints) for FBI and other background checks, identity verification, and document production.

What documents should I bring to my ASC appointment?

When you report to an ASC, you must bring the following documents:

(1) Your receipt notice for your re-registration application;

(2) Your ASC appointment notice; and

(3) Your current EAD.

Failure to appear at an ASC for a required ASC appointment will result in denial of your case due to abandonment unless you submit an address change notification (see instructions below) or a rescheduling request prior to your appointment.

If no further action is required for your case, you will receive a new EAD by mail valid through March 17, 2011. If your case requires further resolution, USCIS will contact you in writing to explain what additional information, if any, is necessary to resolve your case. If your application is subsequently approved, you will receive a new EAD in the mail with an expiration date of March 17, 2011.

What if my address changes after I file my re-registration application?

If your address changes after you file your application for re-registration, you must complete and submit Form AR-11 by mail or electronically. The mailing address is: U.S. Citizenship and Immigration Services, Change of Address, P.O. Box 7134, London, KY 40742-7134.

Form AR-11 can also be filed electronically by following the directions on the USCIS Web site at: http://www.uscis.gov. To facilitate processing your address change on your TPS application, you may call the USCIS National Customer Service Center at 1-800-375-5283 (TTY 1-800-767-1833) to request that your address be updated on your application. Please note that calling the USCIS National Customer Service Center does not relieve you of your burden to properly file a Form AR-11 with USCIS.

May I request an interim EAD at my local District Office?

No. USCIS will not issue interim EADs to TPS applicants and re-registrants at District Offices.

How may employers determine whether an EAD has been automatically extended for six months, through March 17, 2009, and is therefore an acceptable document for completion of the Form I-9, Employment Eligibility Verification?

An EAD that has been automatically extended by this Notice through March 17, 2010 will bear the notation “A-12” or “C-19” on the face of the Form I-766 under “Category,” and have an expiration date of September 17, 2009, on the face of the card. New EADs or extension stickers showing the March 17, 2009, expiration date of the six-month automatic extension will not be issued. Employers should not request proof of Somalian citizenship.

Employers should accept an EAD as a valid “List A” document and not ask for additional Form I-9 documentation if presented with an EAD that has been extended pursuant to this Federal Register Notice, and the EAD reasonably appears on its face to be genuine and to relate to the employee. This extension does not affect the right of an applicant for employment or an employee to present any legally acceptable document as proof of identity and eligibility for employment.

Note to Employers: Employers are reminded that the laws requiring employment eligibility verification and prohibiting unfair immigration-related employment practices remain in full force. This Notice does not supersede or in any way limit applicable employment verification rules and policy guidance, including those rules setting forth re-verification requirements. For questions, employers may call the USCIS Customer Assistance Office at 1-800-357-2099. Also, employers may call the U.S. Department of Justice Office of Special Counsel for Immigration Related Unfair Employment Practices (OSC) Employer Hotline at 1-800-255-8155. Additional information is available on the OSC Web site at http://www.usdoj.gov/crt/osc/index.html.

How may employers determine an employee's eligibility for employment once the automatic six-month extension expires on March 17, 2010?

Eligible TPS aliens will possess an EAD on Form I-766 with an extension date of March 17, 2011. The EAD will bear the notation “A-12” or “C-19” on the face of the card under “Category,” and should be accepted for the purposes of verifying identity and employment authorization.

What documents may a qualified individual show to his or her employer as proof of employment authorization and identity when completing Form I-9?

During the first six months of this extension, qualified individuals who have received a six-month automatic extension of their EADs by virtue of this Federal Register Notice may present their TPS-based EADs to their employers, as described above, as proof of identity and employment authorization through March 17, 2010. To minimize confusion over this extension at the time of hire or re-verification, qualified individuals may also present a copy of this Federal Register Notice regarding the automatic extension of employment authorization documentation through March 17, 2010. After March 17, 2010, a qualified individual may present a new EAD valid through March 17, 2011.

Individuals may also present any other legally acceptable document or combination of documents listed on the Form I-9 as proof of identity and employment eligibility.

[FR Doc. E9-17862 Filed 7-24-09; 8:45 am]

BILLING CODE 9111-97-P